LEGAL SERVICES CORPORATION

Sunshine Act Meeting of the Board of Directors Operations and Regulations Committee

Time and Date: The Operations and Regulations Committee of the Legal Services Corporation Board of Directors will meet on January 31, 2003. The meeting will begin at 1:00 p.m. and continue until the Committee concludes its agenda.

Location: The Washington Court Hotel, 525 New Jersey Avenue, NW., Washington, DC.

Status of Meeting: Open.

Matters to be Considered: 1. Approval of agenda.

2. Approval of the minutes of the Committee's meeting of November 8, 2002.

3. Consider and act on a draft Final Rule on 45 CFR Part 1611 (Financial Eligibility).

4. Consider and act on a draft Final Rule on 45 CFR Part 1602 (Procedure for Disclosure of Information under the Freedom of Information Act).

5. Consider and act on a draft Final Rule on 45 CFR Part 1604 (Outside Practice of Law).

6. Consider and act on issues relating to open rulemaking on 45 CFR Part 1626 (Restrictions on Legal Assistance to Aliens).

7. Staff report on Limited English Proficiency guidance notice and request for comments.

8. Consider and act on other business.

9. Public comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: January 23, 2003.
Victor M. Fortuno,
Vice President for Legal Affairs, General Counsel and Corporate Secretary.

[FR Doc. 03-1990 Filed 1-24-03; 8:45 am]

BILLING CODE 7050-01-P